DEPARTMENT OF HEALTH AND HUMAN SERVICES

Health Resources and Services Administration

Meeting of the CDC/HRSA Advisory Committee on HIV, Viral Hepatitis and STD Prevention and Treatment

AGENCY: Health Resources and Services Administration (HRSA), Department of Health and Human Services (HHS).

ACTION: Notice.

SUMMARY: In accordance with the Federal Advisory Committee Act, this notice announces that the Centers for Disease Control and Prevention (CDC)/HRSA Advisory Committee on HIV, Viral Hepatitis and STD Prevention and Treatment (CHAC) has scheduled a public meeting. Information about CHAC can be found at https://www.cdc.gov/maso/facm/facmCHACHSPT.html.

DATES: March 5, 2020, 3:00 p.m.—4:00 p.m. Eastern Time (ET).

ADDRESSES: This meeting will be held by webinar and will accommodate up to 100 attendees. To access the virtual meeting, please use the information below.

• Webinar link: https://hrsa.connectsolutions.com/chac_business_meeting/

• Conference call-in number:

○ Call in: 888-790-1964.

○ Passcode: 1251991.

FOR FURTHER INFORMATION CONTACT: Theresa Jumento, Public Health Advisor, HIV/AIDS Bureau, HRSA, 5600 Fishers Lane, Rockville, Maryland 20857; 301-443-5807; or CHACAdvisoryComm@hrsa.gov.

SUPPLEMENTARY INFORMATION: CHAC was established under Section 222 of the Public Health Service (PHS) Act, [42 U.S.C. Section 217a], as amended.

The purpose of CHAC is to advise the Secretary of HHS, the Director of CDC, and the HRSA Administrator regarding objectives, strategies, policies, and priorities for HIV, viral hepatitis, and other STDs; prevention and treatment efforts including surveillance of HIV infection, viral hepatitis, other STDs, and related behaviors; epidemiologic, behavioral, health services, and laboratory research on HIV, viral hepatitis, and other STDs; identification of policy issues related to HIV/viral hepatitis/STD professional eduction, patient healthcare delivery, and prevention services; agency policies about prevention of HIV, viral hepatitis and other STDs; treatment, healthcare delivery, and research and training; strategic issues influencing the ability of CDC and HRSA to fulfill their missions of providing prevention and treatment services; programmatic efforts to prevent and treat HIV, viral hepatitis, and other STDs; and support to the agencies in their developoment of responses to emerging health needs related to HIV, viral hepatitis, and other STDs.

During the March 5, 2020, meeting, CHAC will discuss issues related to a CDC pilot on recency assay-based incidence estimation and the President's initiative on “Ending the HIV Epidemic: A Plan for America.” Agenda items are subject to change as priorities dictate.

Due to the nature and time limitations of the meeting, members of the public will not have an opportunity to provide oral comments, although written comments may be submitted prior to the meeting, or up to 5 business days after the meeting, to Theresa Jumento at the contact information listed above. Individuals who plan to attend and need special assistance or another reasonable accommodation should notify Theresa Jumento at the address and phone number listed above at least 10 business days prior to the meeting.

Maria G. Button,
Director, Division of the Executive Secretariat.

[FR Doc. 2020-01809 Filed 1-30-20; 8:45 am]

BILLING CODE 4165-15-P